NUCLEAR REGULATORY COMMISSION

Policy Statement on the Treatment of Environmental Justice Matters in NRC Regulatory and Licensing Actions

AGENCY: Nuclear Regulatory Commission.

ACTION: Draft policy statement: Extension of comment period.

SUMMARY: On November 5, 2003 (68 FR 62642), the Nuclear Regulatory Commission (NRC) published for public comment a draft policy statement on the treatment of environmental justice matters in NRC regulatory and licensing actions. Several persons have subsequently requested an extension of time for submitting comments. In the interest of obtaining public comment from the broadest range of stakeholders, the comment period on the draft policy statement is being extended for an additional 30 days from the original January 5, 2004 deadline to February 4, 2004.

DATES: The comment period on this draft policy statement has been extended and now expires on February 4, 2004. Comments received after this date will be considered if it is practical to do so, but the Commission is able to ensure consideration only for comments received on or before this date.

ADDRESSES: Submit comments to the Secretary, U.S. Nuclear Regulatory Commission, Washington, DC 20555-0001, Attention: Rulemakings and Adjudications Staff. Deliver comments to: 11555 Rockville Pike, Rockville, Maryland, between 7:30 a.m. and 4:15 p.m., on Federal workdays. Because of continuing disruptions in the delivery of mail to United States Government offices, it is requested that comments also be transmitted to the Secretary of the Commission either by means of facsimile transmission to (301) 415-1101, or by e-mail to SECY@nrc.gov. You may also provide comments via NRC's interactive rulemaking Web site (http://ruleforum.llnl.gov). This site also provides the availability to upload comments as files if your Web browser supports that function. Comments received may be examined at the NRC Public Document Room, 11555 Rockville Pike, Rockville, Maryland, or at NRC's Public Electronic Reading Room at http://www.nrc.gov/reading-rm/adams.html.

FOR FURTHER INFORMATION CONTACT: James Lieberman, Special Counsel, Office of General Counsel, U.S. Nuclear Regulatory Commission, Washington, DC, 20555-0001. Telephone: (301) 415-2746; fax number: (301) 415-2036; e-mail: jxl@nrc.gov.

Dated at Rockville, Maryland, this 8th day of December 2003.
For the Nuclear Regulatory Commission.
Annette Vietti-Cook,
Secretary of the Commission.

[FR Doc. 03-30758 Filed 12-11-03; 8:45 am]

BILLING CODE 7590-01-P